DEPARTMENT OF HOMELAND SECURITY

Office of the Secretary

[Docket No. DHS-2014-0011]

Privacy Act of 1974; Department of Homeland Security, Federal Emergency Management Agency—009 Hazard Mitigation, Disaster Public Assistance, and Disaster Loan Programs System of Records

AGENCY: Privacy Office, Department of Homeland Security.

ACTION: Notice of Privacy Act System of Records.

SUMMARY: In accordance with the Privacy Act of 1974, the Department of Homeland Security/Federal Emergency Management Agency proposes to consolidate a current system of records titled, “Department of Homeland Security/Federal Emergency Management Agency—005 Temporary and Permanent Relocation and Personal and Real Property Acquisition and Relocation Files System of Records” (73 FR 77750, December 19, 2008) into the existing system of records titled, “Department of Homeland Security/Federal Emergency Management Agency—009 Hazard Mitigation Assistance Grant Programs System of Records” (77 FR 17783, July 23, 2012). The Department of Homeland Security/Federal Emergency Management Agency also proposes to update this system of records to include all disaster-related grant and loan programs including public assistance program, and rename the system of records as “Department of Homeland Security/Federal Emergency Management Agency—009 Hazard Mitigation, Disaster Public Assistance, and Disaster Loan Programs System of Records” to reflect the changes. The consolidated and updated system of records allows the Department of Homeland Security/Federal Emergency Management Agency to collect and maintain records from points of contact from states, tribes, local governments, and other entities applying for all grant money programs through the Federal Emergency Management Agency's public assistance grants program, disaster loan program, and the Hazard Mitigation Assistance grant programs. This system of records also allows information collection from individuals who may receive public assistance through these grants. This system of records notice includes personally identifiable information collected from individual property owners and/or occupants whose properties are identified in applications for public assistance, hazard mitigation assistance, and other disaster-related assistance or who have been identified by the Federal Emergency Management Agency as candidates for such assistance. The Federal Emergency Management Agency tracks the progress of the grants to the survivors, to ensure proper delivery of service, prevent duplication of benefits, and recoup any improper payment of public assistance funds. As a result of the review records have been updated within the: (1) System name; (2) system location; (3) categories of individuals; (4) categories of records; (5) authority for maintenance; (6) purpose; (7) routine uses; (8) retrievability; and (9) retention and disposal. Additionally, this notice includes non-substantive changes to simplify the formatting and text of the previously published notice. This updated system will be included in the Department of Homeland Security's inventory of record systems.

DATES: Submit comments on or before April 23, 2014. This revised system will be effective April 23, 2014.

ADDRESSES: You may submit comments, identified by docket number DHS-2014-0011, by one of the following methods:

• Federal e-Rulemaking Portal: http://www.regulations.gov. Follow the instructions for submitting comments.

• Fax: 202-343-4010.

• Mail: Karen L. Neuman, Chief Privacy Officer, Privacy Office, Department of Homeland Security, Washington, DC 20528.

INSTRUCTIONS: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Eric M. Leckey (202) 212-5100, Privacy Officer, Federal Emergency Management Agency, Department of Homeland Security, Washington, DC 20472. For privacy issues, please contact: Karen L. Neuman (202) 343-1717, Chief Privacy Officer, Privacy Office, Department of Homeland Security, Washington, DC 20528.

SUPPLEMENTARY INFORMATION:

I. Background

In accordance with the Privacy Act of 1974, 5 U.S.C. 552a, the Department of Homeland Security (DHS) Federal Emergency Management Agency (FEMA) proposes to consolidate, update, and rename a current system of records titled, “DHS/FEMA-009 Hazard Mitigation Assistance Grant Programs System of Records.” As part of the Department's process for reviewing and streamlining compliance documentation and to increase transparency, DHS/FEMA is proposing to: (1) Consolidate the DHS/FEMA-005 Temporary and Permanent Relocation and Personal and Real Property Acquisition and Relocation Files System of Records into the DHS/FEMA-009 Hazard Mitigation Assistance Grant Programs System of Records in order to form one comprehensive system of records for the Hazard Mitigation Assistance (HMA) grant programs; (2) update the system of records to include all public assistance and disaster grant and disaster loan programs as these involve the provision of FEMA assistance through state, local, tribal, or other entities, as well as the collection of similar information; and (3) rename the system of records notice to DHS/FEMA-009 Hazard Mitigation, Disaster Public Assistance, and Disaster Loan Programs System of Records.

In making these updates DHS/FEMA is updating the following sections of the systems of records notice: (1) System name, to reflect the addition of public assistance disaster grant and loan programs; (2) system location, to include the location of systems related to all public assistance disaster grant and loan programs; (3) categories of individuals, to include individuals that benefit from FEMA's disaster public assistance and disaster loan programs; (4) categories of records, to include data elements collected throughout the lifecycle of all disaster public assistance and disaster loan programs, including the appeals or arbitration process and other forms used by grantees, as well as responses related to customer service assessments that FEMA collects from a sample of public assistance recipients; (5) authority for maintenance, to include legal authorities to collect information under all disaster public assistance and loan programs and legal authorities related to FEMA's requirement to perform customer service assessments; (6) purpose, to include all disaster-related grant, loan, and public assistance programs to facilitate FEMA's efforts to assess the customer service it provides to those receiving FEMA assistance, to ensure proper delivery of service, to prevent duplication of benefits, and to recoup improper payment; (7) routine uses, to include additional routine uses for public assistance disaster grant and loan programs and to include information sharing with tribal entities and voluntary organizations; (8) retrievability, to add clarity and to include additional personal identifiers by which information may be retrieved; and (9) retention and disposal, to include retention schedules of all records collected through disaster-related grant, loan, and other public assistance programs, as well as retention schedules for the public assistance customer service assessments.

FEMA's mission includes preparing for, responding to, recovering from, and mitigating the nation from all hazards and disasters. To accomplish this, FEMA administers disaster-related grant, loan, and public assistance programs through state, local, tribal, or other entities, who in turn provide aid and assistance to citizens in need. FEMA is consolidating all disaster-related grant, loan, and public assistance programs under one SORN because the assistance is administered in a similar manner. A point of contact (POC) from the state, local, tribal, or other entity typically collects the required information from the disaster survivor in order to provide assistance through these programs on behalf of FEMA. There may be some instances where FEMA collects the information required by a program directly from the disaster survivor; however, the assistance is provided in consultation with the state, local, tribal, or other entities. Regardless of the source of information, disaster survivor PII may be maintained by FEMA under this system of records to account for public assistance issued to the individual, prevent duplication of benefits, and recoup any improper payment of public assistance funds to the individual.

One of the disaster-related grant, loan, and public assistance programs administered through FEMA is the public assistance (PA) grant program. The PA program provides assistance to state, tribal, and local governments, and certain types of private nonprofit organizations in order for communities to quickly respond to and recover from presidentially-declared major disasters and/or emergencies. FEMA provides supplemental federal disaster grant assistance for activities such as debris removal, emergency protective measures, and the repair, replacement, or restoration of disaster-damaged, publicly owned facilities and the facilities of certain private non-profit (PNP) organizations through the PA program. The PA program also includes the Community Disaster Loan (CDL) program, which provides funds to any eligible local government in a designated disaster area that has suffered a substantial loss of tax or other revenue. The jurisdiction must first demonstrate a need for financial assistance to perform a governmental function.

FEMA has updated this system of records to include all disaster-related assistance programs, including the PA program because the administration of the grants program are similar to the administration of PA programs and because the information collection, maintenance, and uses are consistent with the HMA grant programs currently covered by DHS/FEMA-009. Inclusion of PA programs in this system of records does not impact or change how HMA information is collected and used.

FEMA HMA grant programs provide funding for eligible mitigation activities that reduce disaster losses, protect life and property from future disaster damages, or that are in the best interest of the National Flood Insurance Fund. Through these assistance programs the HMA grant programs provide funds to eligible grantees to implement mitigation measures or determinations to reduce or eliminate the risk of future damage to life and property from hazards through state, local, tribal, or other entities. Many HMA grant programs provide funding for mitigation measures or determinations that impact property privately owned by individuals such as retrofitting structures, elevating structures, implementing structural flood control projects, and constructing safe rooms.

One of the mitigation activities administered under the HMA grant programs is the acquisition and demolition or relocation of qualified properties or structures. FEMA is consolidating and including these records in this updated system of records because they were previously covered by the DHS/FEMA-005 Temporary and Permanent Relocation and Personal and Real Property Acquisition and Relocation Files. In certain areas determined by FEMA to be at greater risk for disasters (i.e., flood plain), individual property owners can voluntarily apply for acquisition and demolition or relocation grant assistance though their local and state governments. Since the acquisition and relocation mitigation activity falls under the overall HMA grant programs, FEMA is consolidating and including this grant assistance program (previously covered by DHS/FEMA-005 Temporary and Permanent Relocation and Personal and Real Property Acquisition and Relocation Files System of Records) into this updated system of records.

Consistent with its mission, FEMA may conduct customer service assessments of PA recipients and collect feedback to determine effectiveness of the program and identify areas for improvement.

This consolidation and update does not impact the current PA grant or loan programs, HMA grant programs, or other disaster-related assistance program operations or the information collection that occur under the program. This consolidation is solely an effort to streamline FEMA's documentation and processes.

This consolidated and updated system will be included in DHS's inventory of record systems.

II. Privacy Act

The Privacy Act embodies fair information principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/FEMA-009 Hazard Mitigation, Disaster Public Assistance, and Loan Programs System of Records.

In accordance with 5 U.S.C. 552a(r), DHS has provided a report of this system change to the Office of Management and Budget and to Congress.

System of Records:

Department of Homeland Security (DHS)/Federal Emergency Management Agency (FEMA)-009.

System name:

DHS/FEMA-009 Hazard Mitigation, Disaster Public Assistance, and Disaster Loan Programs System of Records.

Security classification:

Unclassified.

System location:

Records collected for disaster-related grant, loan, and other public assistance programs may be located in systems such as Mitigation eGrants, Emergency Management Mission Integrated Environment (EMMIE) system, National Emergency Management Information System—Public Assistance (NEMIS-PA), Hazard Mitigation Grant Program (HMGP) system (formerly NEMIS-MT), and Individual Assistance (IA). Community Disaster Loan Program and hard copy records are maintained at FEMA Headquarters in Washington, DC and field locations.

Categories of individuals covered by the system:

Categories of individuals covered by this system include:

• Points of contact (POCs) for grantees of the Public Assistance (PA) program, disaster loans, and the Hazard Mitigation Assistance (HMA) grant programs, including applications that are denied, and awarded grants (grantees), such as state, local, tribal, and territorial governments, and private and non-profit organizations applying for assistance or funds; and

• Individual private property owners and/or occupants whose properties are identified in applications for PA, HMA, and other disaster-related assistance, or who have been identified by FEMA as candidates for such assistance.

Categories of records in the system:

Categories of records for State/Local/Tribal POCs of Grantee include:

• Grant applicant organization POC;

• Grant applicant organization POC's office phone number;

• Grant applicant organization POC's office mailing address;

• Grant applicant organization POC's email address;

• Grant applicant's Dun and Bradstreet Data Universal Numbering System (DUNS);

• Governor's authorized representative name;

• Governor's authorized representative signature;

Categories of records from individual property owners/occupants include:

• Individual property owner/occupant's name;

• Individual property owner/occupant's damaged property address;

• Individual property owner/occupant's personal and/or work phone number;

• Individual other/emergency contact number;

• Individual property owner/occupant's mailing address;

• Individual property owner's status regarding flood and/or homeowners' insurance;

• Individual property owner's National Flood Insurance Program (NFIP) policy number;

• Individual property owner's insurance policy provider for the property proposed to be mitigated with FEMA funds;

• Individual property owner/occupant's signature;

• Individual owner/occupant's household size;

Other records collected to administer and support the disaster-related grant, loan, and public assistance programs:

• Vital and/or special needs and/or accommodations that the individual property owner/occupants and/or their dependents may require;

• Notations and reports of decisions from insurance, disaster, or similar financial aid and/or income from other federal and state agencies, insurance companies, employers, banks, financial or credit data services, and public or private entities as they relate to payments, services, financial assistance, and/or other benefit received by individual property owners for the subject property;

• Records and worksheets describing mitigation activity type, hazard type, award date, and/or Congressional district;

• Relevant financial information, such as salary information, that helps determine eligibility to receive payments, assistance, and/or other benefits, or to cancel loan assistance;

• Information supporting a request for public assistance, which may include maps and sketches, cost estimates, photo sheet, description of the damage, special consideration questions, and scope of work required;

• Information pertaining to requests for appeals for the PA and/or HMA programs and program recommendations;

• Information pertaining to requests and recommendations for arbitrations for the PA program;

• Information pertaining to requests for additional funding for cost overruns for large projects;

• Amounts paid for purchase of property, including records of negotiations and offers;

• Title search documentation including property titles, title company correspondence, closing papers, tax records, and contracts;

• Loan interest payment information including mortgage payment papers, loan documentation claims, and DHS/FEMA approvals;

• Information for determining benefit amounts for real property acquisition including tax records, mortgage information, and divorce decrees;

• Information concerning replacement housing determinations including tax information, affidavits, and determinations;

• Relocation claims payment information including documents verifying that funds have been spent, deeds, contractors, building estimates, construction bills, loan papers, leases, cancelled checks, claim forms, and Decent, Safe, and Sanitary Inspection forms;

• Right of entry and/or consent documentation to enter property;

• Deeds, contractual sales documents, notations of follow-up actions, appraiser qualifications, rent supplement information, questionnaire including background information on displaced persons, and information supplied by displaced persons to support claims for relocation files may contain the following:

○ Applicant contact sheet;

○ Application for assistance;

○ Leases and/or reimbursement agreements and corresponding housing inspection reports;

○ Requests for payment with supporting bills, receipts, etc., for relocation expenses and payment records to individuals and businesses; and

○ Move-out records.

• Customer service survey/assessment responses.

Authority for maintenance of the system:

Sections 203, 403, 404, 406, 407, 417 of the Robert T. Stafford Disaster Relief and Emergency Assistance Act, as amended, 42 U.S.C. 5133, 5170a, 5170b, 5170c, 5173 and 5184; 42 U.S.C. 4030, 4102a, and 4104c, National Flood Insurance Act of 1968, as amended (the “NFIA”), 42 U.S.C. 4001, et seq.; the Government Performance and Results Act, Public Law 103-62, as amended; Executive Order 13411 “Improving Assistance to Disaster Victims,” August 29, 2006; and Executive Order 12862 “Setting Customer Service Standards,” September 11, 2003.

Purpose(s):

The purpose of this system is to administer the PA grants program, HMA grants programs, and other disaster grants and disaster loan programs to mitigate and recover from emergencies and disasters and to assess the customer satisfaction of FEMA public assistance applicants while allowing FEMA to prevent the duplication of benefits and recoup improper payment. The purpose of this SORN consolidation is to streamline FEMA documentation and processes since the aforementioned programs are administered by FEMA through state, local, tribal, and other entities and collect similar information.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The U.S. or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary or relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, students, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To the state, local, tribal government whose area has been declared, approved, and subject to said grant/loan efforts, or to a federal, state, tribal, or local government agency charged with administering federal mitigation or disaster relief programs in order to prevent a duplication of efforts by FEMA or the said agency, or a duplication of benefits to an individual applying for mitigation grant programs administered by FEMA.

I. To a federal, state, tribal, or local government agency, or other public or private entity (to include voluntary/non-governmental organizations, insurance companies, insurance agents/brokers, individual's employer, and/or financial institutions), when an individual property owner's eligibility for grant assistance to the property, in whole or in part, depends upon financial benefits already received or available from that source for similar purposes.

J. To federal, state, tribal, local governments, voluntary organizations, utilities, and hospitals/health care providers to address unmet needs of individuals seeking assistance, or to restore/provide essential services, determine the status of ongoing projects or requests for assistance, and verify eligibility for/prevent a duplication of assistance.

K. To the affected state subdivision thereof (regional, local, or tribal) for the purpose of determining the state's or subdivision's eligibility for tracking title to the acquired property for recreational and open space resources.

L. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system.

Storage:

FEMA stores records in this system electronically or on paper in secure facilities in a locked drawer behind a locked door. The records are stored on magnetic disc, tape, or digital media.

Retrievability:

FEMA may retrieve records by an individual's name, name of the applicant or sub-applicant organization submitting the grant application, mitigation activity type, hazard type, award date, congressional district, and/or individual's flood insurance policy information.

Safeguards:

FEMA safeguards records in this system in accordance with applicable rules and policies, including all applicable DHS automated systems security and access policies. FEMA has imposed strict controls to minimize the risk of compromising the information it stores. Access to the computer system containing the records in this system is limited to those individuals who have a need to know the information for the performance of their official duties and who have appropriate clearances or permissions.

Retention and disposal:

In accordance with Government Records Schedule (GRS) 3, Item 14, FEMA destroys grant administrative records and hard copies of unsuccessful grant applications files after two years. In accordance with GRS 3, Item 13, FEMA stores electronically received and processed copies of unsuccessful grant application files for 3 years from the date of denial and then deleted.

In accordance with NARA Authority N1-311-95-1, Item 1, FEMA maintains grant project records for three years after the end of the fiscal year that the grant or agreement is finalized or when no longer needed, whichever is sooner.

In accordance with NARA Authority N1-311-95-1, Item 3, FEMA retires grant final reports to the Federal Records Center (FRC) three years after cutoff and transfers them to NARA 20 years after cutoff. In accordance with NARA Authority N1-311-95-1, Item 2; N1-311-01-8, Item 1; and N1-311-04-1, Item 1, FEMA stores all other grant records for six years and three months from the date of closeout (when closeout is the date FEMA closes the grant in its financial system) and final audit and appeals are resolved and then deleted.

FEMA will consolidate original files regarding occupant-related documents (e.g., site requests, mobile home sales documents, leases, and contracts) at regional offices at the end of Phase II (e.g., when shelterees are removed to permanent housing) and destroy them six years and three months after files are consolidated in accordance with NARA Authority N1-311-86-1, Item 4C8b(1).

Records of real properties (property acquisition agreement and lists of acquired properties) acquired with FEMA funds for maintenance in accordance with agreement terms of the grant cannot be destroyed until agreement with locality is no longer viable. Files regarding the permanent relocation purchases of properties under Section 1362 are permanent and maintained in accordance with NARA Authority N1-311-86-1, Item 4C10d. FEMA stores records pertaining to individual assistance customer satisfaction assessments in accordance with NARA Authority N1-311-00-1.

The customer service assessment forms that have been filled out and returned by disaster assistance applicants are temporary records that are destroyed upon transmission of the final report, per NARA Authority N1-311-00-1, Item 1.

The statistical and analytical reports resulting from these assessments are temporary records that are retired three years after the final report cutoff and destroyed 20 years after the report cutoff per NARA Authority N1-311-00-1, Item 2. The assessment results database are temporary records that are destroyed when no longer needed for analysis purposes, per NARA Authority N1-311-00-1, Item 3.

System Manager and address:

Director, Risk Reduction Division, FEMA, 1800 South Bell Street, Arlington, VA 20598-3030; Director, Public Assistance Division, FEMA, 500 C Street SW., Washington, DC 20472. Enterprise Coordination/Information Management, National Processing Service Center, Winchester, VA.

Notification procedure:

Individuals seeking notification of and access to any record contained in this system of records, or seeking to contest its content, may submit a request in writing to the FEMA Privacy Officer and FEMA Freedom of Information Act Officer, whose contact information can be found at http://www.dhs.gov/foia under “contacts.” If an individual believes more than one component maintains Privacy Act records concerning him or her the individual may submit the request to the Chief Privacy Officer and Chief Freedom of Information Act Officer, Department of Homeland Security, 245 Murray Drive SW., Building 410, STOP-0655, Washington, DC 20528.

When seeking records about yourself from this system of records or any other Departmental system of records your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information the component(s) may not be able to conduct an effective search, and your request may be denied due to lack of specificity or lack of compliance with applicable regulations.

Record access procedures:

See “Notification procedure” above.

Contesting record procedures:

See “Notification procedure” above.

Record source categories:

FEMA obtains information in this system of records from individual points of contact for state, local, tribal, territorial governments, and private and non-profit organizations via hard copy and electronic applications for assistance, as well as from the individual disaster survivors, from whom FEMA may collect information directly to assess and report on damages incurred as a result of a disaster.

Exemptions claimed for the system:

None.

Dated: February 11, 2014.
Karen L. Neuman,
Chief Privacy Officer, Department of Homeland Security.

[FR Doc. 2014-06361 Filed 3-21-14; 8:45 am]

BILLING CODE 9110-17-P